FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011764

Title: Zim/Norasia/CSAV Slot Exchange Agreement

Parties: Compania Sud-Americana DeVapores S.A., Norasia Container Lines Limited, Zim Israel Navigation Co., Ltd.

Synopsis: The agreement authorizes Zim and CSAV/Norasia to exchange slots in the trade between the U.S. West Coast and countries bordering the Adriatic Sea, Israel, Egypt, Sri Lanka and the Far East in the Korea/Singapore/South East Asia range, allocations to be proportionate to their vessel allocation. Expedited review is requested.

Agreement No.: 011765

Title: Senator/OOCL-Slot Charter Agreement

Parties: Senator Lines GmbH Orient Overseas Container Line Limited

Synopsis: The proposed agreement would allow Senator Lines to sell 100 TEU (1100 m/tons) per voyage westbound and 150 TEU (1650 m/tons) eastbound to OOCL in the trade between the U.S. East Coast and Korea, the People's Republic of China, Hong Kong and Taiwan. Senator may sell OOCL a maximum of 300 TEU (3300 m/tons) per voyage to both directions.

By Order of the Federal Maritime Commission.
Dated: May 11, 2001.
Bryant L. VanBrakle,
Secretary.

[FR Doc. 01-12370 Filed 5-15-01; 8:45 am]

BILLING CODE 6730-01-P